DEPARTMENT OF STATE

[Public Notice 6721]

Termination of Ineligible Status and Statutory Debarment Pursuant to Section 38(g)(4) of the Arms Export Control Act and Section 127.7 of the International Traffic in Arms Regulations for Electro-Glass Products, Inc.

ACTION: Notice.

SUMMARY: Notice is hereby given that the Department of State has terminated the ineligible status and statutory debarment of Electro-Glass Products, Inc., pursuant to section 38(g)(4) of the Arms Export Control Act (AECA) (22 U.S.C. 2778) and section 127.7 of the International Traffic in Arms Regulations (ITAR).

DATES: Effective Date: June 9, 2009.

FOR FURTHER INFORMATION CONTACT: Daniel J. Buzby, Acting Director, Office of Defense Trade Controls Compliance, Directorate of Defense Trade Controls, Bureau of Political-Military Affairs, Department of State (202) 663-2812.

SUPPLEMENTARY INFORMATION: Section 38(g)(4) of the AECA and section 127.11 of the ITAR prohibit the issuance of export licenses or other approvals to a person if that person, or any party to the export, has been convicted of violating the AECA and certain other U.S. criminal statutes enumerated at section 38(g)(1) of the AECA and section 120.27 of the ITAR. Such individuals are considered ineligible in accordance with section 120.1 of the ITAR. Also, a person convicted of violating the AECA is subject to statutory debarment under section 127.7 of the ITAR.

In July 2007, Electro-Glass Products, Inc. was convicted of violating the AECA (U.S. District Court, District of Pennsylvania, Case # 06-00117-001). Based on this conviction, Electro-Glass Products, Inc., was ineligible in accordance with section 120.1 of the ITAR and was statutorily debarred pursuant to section 127.7 of the ITAR. Electro-Glass Products, Inc. was thus prohibited from participating directly or indirectly in exports of defense articles and defense services. Notice of debarment was published in the Federal Register (72 FR 51885, September 11, 2007).

In accordance with section 38(g)(4) of the AECA and section 127.7 of the ITAR, the ineligible status and statutory debarment may be terminated after consultation with other appropriate U.S. agencies, after a thorough review of the circumstances surrounding the conviction, and a finding that appropriate steps have been taken to mitigate any law enforcement concerns. The Department of State has reviewed the circumstances and consulted with other appropriate U.S. agencies, and has determined that Electro-Glass Products, Inc., has taken appropriate steps to address the causes of the violations and to mitigate any law enforcement concerns. Therefore, in accordance with section 38(g)(4) of the AECA and section 127.7 of the ITAR, Electro-Glass Products, Inc. is no longer ineligible and the statutory debarment is rescinded, effective June 9, 2009.

Dated: July 27, 2009.
Andrew J. Shapiro
Assistant Secretary, Bureau of Political-Military Affairs, Department of State.

[FR Doc. E9-18847 Filed 8-5-09; 8:45 am]

BILLING CODE 4710-25-P